DEPARTMENT OF JUSTICE

Notice of Lodging of Consent Decree Under the Comprehensive Environmental Response, Compensation, and Liability Act

Notice is hereby given that on January 11, 2012, a proposed Consent Decree (“Decree”) in United States v. Merriam Manufacturing Company, Inc.; Aztec Industries, L.L.C.; and Estate of Allen Adams, Civil Action No. 3:12-cv-00054, was lodged with the United States District Court for the District of Connecticut.

The Decree resolves claims of the United States pursuant to Sections 106 and 107 of the Comprehensive Environmental Response, Compensation, and Liability Act (“CERCLA”), 42 U.S.C. 9606, 9607, against the parties in connection with the Durham Meadows Superfund Site located in Durham, Connecticut (“Site”). Under the Decree the settling defendants agree to a stipulated judgment in the amount of $20,137,000. The Consent Decree provides that the judgment may be satisfied solely through proceeds from insurance and from the proceeds of the sale of real property.

The Department of Justice will receive for a period of thirty (30) days from the date of this publication comments relating to the Decree. Comments should be addressed to the Assistant Attorney General, Environmental and Natural Resources Division, and either emailed to pubcomment-ees.enrd@usdoj.gov or mailed to P.O. Box 7611, U.S. Department of Justice, Washington, DC 20044-7611, and should refer to United States v. Merriam Manufacturing Company, Inc., et al., Civil Action No. 3:12-cv-00054, D.J. Ref. 90-11-3-1721/2.

During the public comment period, the Consent Decree also may be examined on the following Department of Justice Web site: http://www.usdoj.gov/enrd/Consent_Decrees.html. A copy of the Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library, please enclose a check in the amount of $15.50 (25 cents per page reproduction cost) payable to the U.S. Treasury or, if by email or fax, forward a check in that amount to the Consent Decree Library at the address given above. If requesting a copy exclusive of exhibits, please enclose a check in the amount of $6.50.

Ronald Gluck,
Assistant Chief, Environmental Enforcement Section, Environment and Natural Resources Division.

[FR Doc. 2012-1240 Filed 1-20-12; 8:45 am]

BILLING CODE 4410-15-P